INTER-AMERICAN FOUNDATION

Inter-American Foundation Board Meeting; Sunshine Act

Time and Date: March 1, 2002, 9:00-3:30 p.m.

Place: Inter-American Foundation, 901 N. Stuart Street, Arlington, VA 22201.

Status: Open session.

Matters to be Considered: • Approval of the Minutes of the April 23, 2001, Meeting of the Board of Directors

• President's Report

• Congressional Appropriations Update

• Advisory Council

• Special Investment Initiative

CONTACT PERSON FOR MORE INFORMATION: Carolyn Karr, General Counsel, (703) 306-4350.

Dated: January 20, 2002.
Carolyn Karr,
General Counsel.

[FR Doc. 02-4418 Filed 2-20-02; 1:49 pm]

BILLING CODE 7025-01-M